DEPARTMENT OF COMMERCE

National Oceanic and Atmospheric Administration

RIN 0648-XG094

Marine Mammals; File No. 21719

AGENCY: National Marine Fisheries Service (NMFS), National Oceanic and Atmospheric Administration (NOAA), Commerce.

ACTION: Notice; receipt of application.

SUMMARY: Notice is hereby given that NMFS Northeast Fisheries Science Center, Woods Hole, MA (Responsible Party: John Hare), has applied in due form for a permit to conduct research on four species of pinnipeds.

DATES: Written, telefaxed, or email comments must be received on or before July 5, 2018.

ADDRESSES: The application and related documents are available for review by selecting “Records Open for Public Comment” from the “Features” box on the Applications and Permits for Protected Species (APPS) home page, https://apps.nmfs.noaa.gov, and then selecting File No. 21719 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant requests a five-year permit to take harbor seals (Phoca vitulina), gray seals (Halichoerus grypus), harp seals (Pagophilus groenlandicus), and hooded seals (Cystophora cristata) during stock assessment research, including estimation of distribution and abundance, determination of stock structure, habitat requirements, foraging ecology, health assessment, and effects of natural and anthropogenic factors. Types of take include harassment during ground, vessel, or aerial surveys, and scat collection; and capture with tissue sampling and instrument or tag attachment. The applicant proposes to capture up to 200 harbor seals, 400 gray seals, five harp seals, and five hooded seals annually for measurement of body condition, biological sampling (e.g., blood, blubber biopsy, skin, hair, swab samples, and vibrissae), and attachment of telemetry devices. Up to 27,175 harbor seals and 66,700 gray seals could be harassed annually incidental to surveys, scat collections, and capture operations. The applicant also requests research-related mortalities of up to 5 gray seals, 5 harbor seals, 1 harp seal, and 1 hooded seal per year. Permission is also sought to import and export pinniped specimen material (including soft and hard tissue, blood, extracted DNA, and whole dead animals or parts thereof) worldwide. The study area includes waters within or proximal to the U.S. EEZ from North Carolina northward to Maine, and Canadian waters in the Gulf of Maine.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 31, 2018.
Julia Marie Harrison,
Chief, Permits and Conservation Division, Office of Protected Resources, National Marine Fisheries Service.

[FR Doc. 2018-12001 Filed 6-4-18; 8:45 am]

BILLING CODE 3510-22-PA05JN3.